DEPARTMENT OF HOMELAND SECURITY

Federal Emergency Management Agency

[Docket ID FEMA-2023-0002; Internal Agency Docket No. FEMA-B-2394]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Nicholas A. Shufro,
Deputy Assistant Administrator for Risk Management, Federal Emergency Management Agency, Department of Homeland Security.

State and county | Location and case No. | Chief executive officer of community | Community map repository | Online location of letter of map revision | Date of modification | Community No.
Arizona:
Pima | Town of Marana (22-09-1156P). | The Honorable Ed Honea, Mayor, Town of Marana, 11555 West Civic Center Drive, Marana, AZ 85653. | Engineering Department, Marana Municipal Complex, 11555 West Civic Center Drive, Marana, AZ 85653. | https://msc.fema.gov/portal/advanceSearch. | Feb. 16, 2024 | 040118
Pinal | Town of Queen Creek (22-09-0772P). | The Honorable Julia Wheatley, Mayor, Town of Queen Creek, 22358 South Ellsworth Road, Queen Creek, AZ 85142. | Town Hall, 22358 South Ellsworth Road, Queen Creek, AZ 85142. | https://msc.fema.gov/portal/advanceSearch. | Feb. 16, 2024 | 040132
Pinal | Unincorporated Areas of Pinal County (22-09-0772P). | The Honorable Jeff Serdy, Chair, Board of Supervisors, Pinal County, P.O. Box 827, Florence, AZ 85132. | Pinal County Engineering Division, 31 North Pinal Street, Building F, Florence, AZ 85132. | https://msc.fema.gov/portal/advanceSearch. | Feb. 16, 2024 | 040077
California:
Kern | City of Bakersfield (22-09-0517P). | The Honorable Karen K. Goh, Mayor, City of Bakersfield, 1501 Truxtun Avenue, Bakersfield, CA 93301. | Public Works Department, 1501 Truxtun Avenue, Bakersfield, CA 93301. | https://msc.fema.gov/portal/advanceSearch. | Mar. 7, 2024 | 060077
Kern | Unincorporated Areas of Kern County (22-09-0517P). | The Honorable Jeff Flores, Chair, Board of Supervisors, Kern County, 1115 Truxtun Avenue, 5th Floor, Bakersfield, CA 93301. | Kern County Planning Department, 2700 M Street, Suite 100, Bakersfield, CA 93301. | https://msc.fema.gov/portal/advanceSearch. | Mar. 7, 2024 | 060075
Napa | City of Calistoga (22-09-1525P). | The Honorable Donald Williams, Mayor, City of Calistoga, City Hall, 1232 Washington Street, Calistoga, CA 94515. | Planning and Building Department, 1232 Washington Street, Calistoga, CA 94515. | https://msc.fema.gov/portal/advanceSearch. | Feb. 12, 2024 | 060206
Napa | Unincorporated Areas of Napa County (22-09-1525P). | The Honorable Belia Ramos, Chair, Board of Supervisors, Napa County, 1195 3rd Street, Napa, CA 94559. | Napa County, Public Works Department, 1195 3rd Street, Suite 101, Napa, CA 94559. | https://msc.fema.gov/portal/advanceSearch. | Feb. 12, 2024 | 060205
Riverside | City of Menifee (22-09-1366P). | The Honorable Bill Zimmerman, Mayor, City of Menifee, 29844 Haun Road, Menifee, CA 92586. | Public Works and Engineering Department, 29714 Haun Road, Menifee, CA 92586. | https://msc.fema.gov/portal/advanceSearch. | Feb. 26, 2024 | 060176
Riverside | City of Perris (22-09-1366P). | The Honorable Michael Vargas, Mayor, City of Perris, 101 North D Street, Perris, CA 92570. | Engineering Department, 24 South D Street, Suite 100, Perris, CA 92570. | https://msc.fema.gov/portal/advanceSearch. | Feb. 26, 2024 | 060258
Riverside | Unincorporated Areas of Riverside County (23-09-0988P). | The Honorable Kevin Jeffries, Chair, Board of Supervisors, Riverside County, 4080 Lemon Street, 5th Floor, Riverside, CA 92501. | Riverside County, Flood Control and Water Conservation District, 1995 Market Street, Riverside, CA 92501. | https://msc.fema.gov/portal/advanceSearch. | Mar. 13, 2024 | 060245
San Diego | City of San Diego (23-09-0040P). | The Honorable Todd Gloria, Mayor, City of San Diego, 202 C Street, 11th Floor, San Diego, CA 92101. | Development Services Department, 1222 1st Avenue, MS 301, San Diego, CA 92101. | https://msc.fema.gov/portal/advanceSearch. | Apr. 2, 2024 | 060295
San Joaquin | City of Lathrop (23-09-0600P). | The Honorable Sonny Dhaliwal, Mayor, City of Lathrop, 390 Towne Centre Drive, Lathrop, CA 95330. | Community Development Department, Planning Division, 390 Towne Centre Drive, Lathrop, CA 95330. | https://msc.fema.gov/portal/advanceSearch. | Mar. 27, 2024 | 060738
Ventura | City of Simi Valley (22-09-1318P). | The Honorable Fred D. Thomas, Mayor, City of Simi Valley, 2929 Tapo Canyon Road, Simi Valley, CA 93063. | Department of Public Works, 2929 Tapo Canyon Road, Simi Valley, CA 93063. | https://msc.fema.gov/portal/advanceSearch. | Feb. 20, 2024 | 060421
Florida:
Duval | City of Jacksonville (22-04-5474P). | The Honorable Donna Deegan, Mayor, City of Jacksonville, 117 West Duval Street Suite 400, Jacksonville, FL 32202. | Edward Ball Building Development Services, Room 2100, 214 North Hogan Street, Jacksonville, FL 32202. | https://msc.fema.gov/portal/advanceSearch. | Feb. 28, 2024 | 120077
St. Johns | Unincorporated Areas of St. Johns County (23-04-1421P). | Christian Whitehurst, Chair, St. Johns County Board of County Commissioners, 500 San Sebastian View, St. Augustine, FL 32084. | St. Johns County Permit Center, 4040 Lewis Speedway, St. Augustine, FL 32084. | https://msc.fema.gov/portal/advanceSearch. | Mar. 4, 2024 | 125147
Idaho: Elmore | Unincorporated Areas of Elmore County (23-10-0206P). | Al Hofer, Chair, Elmore County, 150 South 4th East Street, Mountain Home, ID 83647. | Elmore County Courthouse Planning and Zoning Department, 150 South 4th East Street, Mountain Home, ID 83647. | https://msc.fema.gov/portal/advanceSearch. | Feb. 29, 2024 | 160212
Illinois:
Cook | Village of Richton Park (23-05-2566P). | Rick Reinbold, Village President, Village of Richton Park, 4455 Sauk Trail, Richton Park, IL 60471. | Municipal Building, 4455 Sauk Trail, Richton Park, IL 60471. | https://msc.fema.gov/portal/advanceSearch. | Mar. 18, 2024 | 170149
Kane | Village of Gilberts (23-05-1813P). | Guy Zambetti, Village President, Village of Gilberts, 87 Galligan Road, Gilberts, IL 60136. | Village Hall, 87 Galligan Road, Gilberts, IL 60136. | https://msc.fema.gov/portal/advanceSearch. | Mar. 28, 2024 | 170326
Lake | City of Waukegan (23-05-2407P). | The Honorable Ann B. Taylor, Mayor, City of Waukegan, 100 North Martin Luther King, Jr. Avenue, Waukegan, IL 60085. | City Hall, 100 North Martin Luther King, Jr. Avenue, Waukegan, IL 60085. | https://msc.fema.gov/portal/advanceSearch. | Feb. 21, 2024 | 170397
Lake | City of Zion (23-05-2407P). | The Honorable Billy McKinney, Mayor, City of Zion, 2828 Sheridan Road, Zion, IL 60099. | City Hall, 2828 Sheridan Road, Zion, IL 60099. | https://msc.fema.gov/portal/advanceSearch. | Feb. 21, 2024 | 170399
Lake | Unincorporated Areas of Lake County (23-05-2407P). | Gary Gibson, Lake County Administrator, 18 North County Street 9th Floor, Waukegan, IL 60085. | Lake County, Central Permit Facility, 500 West Winchester Road, Unit 101, Libertyville, IL 60048. | https://msc.fema.gov/portal/advanceSearch. | Feb. 21, 2024 | 170357
Lake | Village of Beach Park (23-05-2407P). | The Honorable John Hucker, Mayor, Village of Beach Park, 11270 West Wadsworth Road, Beach Park, IL 60099. | Village Hall, 11270 West Wadsworth Road, Beach Park, IL 60099. | https://msc.fema.gov/portal/advanceSearch. | Feb. 21, 2024 | 171022
Lake | Village of Grayslake (23-05-2407P). | The Honorable Rhett Taylor, Mayor, Village of Grayslake, 10 South Seymour Avenue, Grayslake IL 60030. | Village Hall, 10 South Seymour Avenue, Grayslake, IL 60030. | https://msc.fema.gov/portal/advanceSearch. | Feb. 21, 2024 | 170363
Lake | Village of Old Mill Creek (23-05-2407P). | Tempel (Tim) Smith, President, Village of Old Mill Creek, P.O. Box 428, Old Mill Creek, IL 60083. | Village Hall, 19020 Old Grass Lake Road, Old Mill Creek, IL 60046. | https://msc.fema.gov/portal/advanceSearch. | Feb. 21, 2024 | 170385
Lake | Village of Third Lake (23-05-2407P). | Rodney Buckley, President, Village of Third Lake, 87 North Lake Avenue, Third Lake, IL 60030. | Village Hall, 87 North Lake Avenue, Third Lake, IL 60030. | https://msc.fema.gov/portal/advanceSearch. | Feb. 21, 2024 | 170392
Lake | Village of Winthrop Harbor (23-05-2407P). | The Honorable Mike Bruno, Mayor, Village of Winthrop Harbor, 830 Sheridan Road, Winthrop Harbor, IL 60096. | Village Hall, 830 Sheridan Road, Winthrop Harbor, IL 60096. | https://msc.fema.gov/portal/advanceSearch. | Feb. 21, 2024 | 170398
La Salle | City of Peru (23-05-1547P). | The Honorable Ken Kolowski, Mayor, City of Peru, 1901 4th Street, Peru, IL 61354. | City Hall, 1901 4th Street, Peru, IL 61354. | https://msc.fema.gov/portal/advanceSearch. | Mar. 12, 2024 | 170406
Will | Unincorporated Areas of Will County (22-05-2651P). | Jennifer Bertino-Tarrant, Will County Executive, Will County Office Building, 302 North Chicago Street, Joliet, IL 60432. | Will County Land Use Department, 58 East Clinton Street, Suite 100, Joliet, IL 60432. | https://msc.fema.gov/portal/advanceSearch. | Mar. 20, 2024 | 170695
Kansas: Johnson | Unincorporated Areas of Johnson County (23-07-0167P). | Mike Kelly, Chair, Johnson County Board of Supervisors, County Courthouse, 111 South Cherry Street, Olathe, KS 66061. | Johnson County Courthouse, Planning Office, 111 South Cherry Street Suite 3500, Olathe, KS 66061. | https://msc.fema.gov/portal/advanceSearch. | Mar. 7, 2024 | 200159
Michigan: Genesee | City of Flint (22-05-2748P). | The Honorable Sheldon Neeley, Mayor, City of Flint, 1101 South Saginaw Street, Flint, MI 48502. | City Council, 1101 South Saginaw Street, Flint, MI 48502. | https://msc.fema.gov/portal/advanceSearch. | Feb. 19, 2024 | 260076
Nevada: Clark | City of Henderson (23-09-0113P). | The Honorable Michelle Romero, Mayor, City of Henderson, 240 South Water Street, Henderson, NV 89015. | Public Works Department, 240 South Water Street, Henderson, NV 89015. | https://msc.fema.gov/portal/advanceSearch. | Mar. 6, 2024 | 320005
New York:
Erie | City of Tonawanda (23-02-0651X). | The Honorable John L. White, Mayor, City of Tonawanda, 200 Niagara Street, Tonawanda, NY 14150. | City Hall, 200 Niagara Street, Tonawanda, NY 14150. | https://msc.fema.gov/portal/advanceSearch. | Mar. 13, 2024 | 360259
Erie | Town of Grand Island (23-02-0651X). | John Whitney, P.E., Town Supervisor, Town of Grand Island, 2255 Baseline Road, 1st Floor, Grand Island, NY 14072. | Town Hall, 2255 Baseline Road, Grand Island, NY 14072. | https://msc.fema.gov/portal/advanceSearch. | Mar. 13, 2024 | 360242
Wisconsin:
Buffalo | City of Durand (22-05-1633P). | The Honorable Patrick Milliren, Mayor, City of Durand, 511 6th Avenue East, Durand, WI 54736. | City Hall, 104 East Main Street, Durand, WI 54736. | https://msc.fema.gov/portal/advanceSearch. | Feb. 9, 2024 | 550320
Buffalo | Unincorporated Areas of Buffalo County (22-05-1633P). | Dennis Bork, Chair, Buffalo County Board of Supervisors, P.O. Box 58, Alma, WI 54610. | Buffalo County Courthouse, 407 South 2nd Street, Alma, WI 54610. | https://msc.fema.gov/portal/advanceSearch. | Feb. 9, 2024 | 555547
Pepin | Unincorporated Areas of Pepin County (22-05-1633P). | Tom Milliren, Chair, Pepin County Board of Supervisors, 740 7th Avenue West, Durand, WI 54736. | Pepin County Government Center, 740 7th Avenue West, Durand, WI 54736. | https://msc.fema.gov/portal/advanceSearch. | Feb. 9, 2024 | 555570
Clark | Unincorporated Areas of Clark County (23-05-1325P). | Wayne Hendrickson, Chair, Clark County Board of Supervisors, Emergency Government Department, 517 Court Street, Neillsville, WI 54456. | Clark County, Emergency Government Department, 517 Court Street, Neillsville, WI 54456. | https://msc.fema.gov/portal/advanceSearch. | Feb. 29, 2024 | 550048

[FR Doc. 2023-27631 Filed 12-14-23; 8:45 am]

BILLING CODE 9110-12-P